FEDERAL MARITIME COMMISSION

Notice of Agreement Filed

The Commission hereby gives notice of the filing of the following agreement under the Shipping Act of 1984. Interested parties may submit comments on an agreement to the Secretary, Federal Maritime Commission, Washington, DC 20573, within ten days of the date this notice appears in the Federal Register. Copies of agreements are available through the Commission's Office of Agreements (202-523-5793) or (tradeanalysis@fmc.gov).

Agreement No.: 011947-001.

Title: Grimaldi/Sallaum Space Charter Agreement.

Parties: Grimaldi Compagnia di Navigazione and Sallaum Lines SAL.

Filing Party: Wayne R. Rohde, Esq.; Sher & Blackwell LLP; 1850 M Street, NW.; Suite 900; Washington, DC 20036.

Synopsis: The amendment extends the duration of the agreement to November 7, 2006.

Dated: June 16, 2006.
By Order of the Federal Maritime Commission.
Karen V. Gregory,
Assistant Secretary.

[FR Doc. E6-9743 Filed 6-20-06; 8:45 am]

BILLING CODE 6730-01-P